ENVIRONMENTAL PROTECTION AGENCY

40 CFR Part 168

[EPA-HQ-OPP-2009-0607; FRL-9357-8]

RIN 2070-AJ53

Notification of Submission to the Secretary of Agriculture; Pesticides; Regulation To Clarify Labeling of Pesticides for Export

AGENCY: Environmental Protection Agency (EPA).

ACTION: Notification of submission to the Secretary of Agriculture.

SUMMARY: This document notifies the public as required by the Federal Insecticide, Fungicide, and Rodenticide Act (FIFRA) that the EPA Administrator has forwarded to the Secretary of the U.S. Department of Agriculture (USDA) a draft final rule concerning the revision of regulations on the labeling of pesticide products and devices intended solely for export. The draft final rule is not available to the public until after it has been signed and is made available by EPA.

ADDRESSES: The docket for this action, identified by docket identification (ID) number EPA-HQ-OPP-2009-0607, is available at http://www.regulations.gov or at the Office of Pesticide Programs Regulatory Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Vera Au, Field and External Affairs Division (MC 7506P), Office of Pesticide Programs, Environmental Protection Agency, 1200 Pennsylvania Ave. NW., Washington DC 20460-0001; telephone number: (703) 308-9069; email address: au.vera@epa.gov.

SUPPLEMENTARY INFORMATION:

I. What action is EPA taking?

Section 25(a)(2)(B) of FIFRA requires the EPA Administrator to provide the Secretary of Agriculture with a copy of any draft final rule at least 30 days before signing it in final form for publication in the Federal Register. This notice announces the submission of a draft final rule to the Secretary of Agriculture concerning the revision of regulations clarifying the labeling of pesticide products and devices intended for export. The draft final rule is not available to the public until after it has been signed by EPA. If the Secretary comments in writing regarding the draft final rule within 15 days after receiving it, the EPA Administrator shall include the comments of the Secretary, if requested by the Secretary, along with the EPA Administrator's response to those comments with the final rule that publishes in the Federal Register. If the Secretary does not comment in writing within 15 days after receiving the draft final rule, the EPA Administrator may sign the final rule for publication in the Federal Register any time after the 15-day period.

II. Do any statutory and executive order reviews apply to this notification?

No. This document is merely a notification of submission to the Secretary of USDA. As such, none of the regulatory assessment requirements apply to this document.

List of Subjects in Part 168

Environmental protection, Administrative practice and procedure, Advertising, Exports, Labeling, Pesticides and pests, Reporting and recordkeeping requirements.

Dated: August 2, 2012.
Marty Monell,
Acting Director, Office of Pesticide Programs.

[FR Doc. 2012-19408 Filed 8-7-12; 8:45 am]

BILLING CODE 6560-50-P